DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before October 11, 2011. Address written comments to Statutory Import Programs Staff, Room 3720, U.S. Department of Commerce, Washington, DC 20230. Applications may be examined between 8:30 a.m. and 5 p.m. at the U.S. Department of Commerce in Room 3720.

Docket Number: 11-060. Applicant: Brookhaven National Laboratory, 480 Cornell Avenue, Upton, New York 11973. Instrument: Electron Microscope. Manufacturer: JEOL, Ltd., Japan. Intended Use: The instrument will be used to study crystalline and electronic structures of energy-related matter including superconductors and thermoelectric materials, using electron diffraction, high resolution imaging, and other techniques. The objectives include determining the links of structures to the physical properties of materials, to help improve the properties of such materials. Justification for Duty-Free Entry: There are no instruments of the same general category manufactured in the United States. Application accepted by Commissioner of Customs: August 24, 2011.

Dated: September 14, 2011.
Gregory Campbell,
Director, IA Subsidies Enforcement Office.

[FR Doc. 2011-24122 Filed 9-19-11; 8:45 am]

BILLING CODE 3510-DS-P